DEPARTMENT OF DEFENSE

Office of the Secretary

Defense Science Board

AGENCY: Department of Defense.

ACTION: Notice of Advisory Committee meeting cancellation.

SUMMARY: The Defense Science Board Task Force on Integrated Fire Support in the Battlespace meetings scheduled for June 4-5, 2003, and July 9-10, 2003, as announced in the Federal Register (68 FR 20123, April 24, 2003), are hereby cancelled.

Dated: June 3, 2003.
Patricia L. Toppings,
Alternate OSD Federal Register Liaison Officer, Department of Defense.

[FR Doc. 03-15038 Filed 6-13-03; 8:45 am]

BILLING CODE 5001-10-M